DEPARTMENT OF AGRICULTURE

Agricultural Marketing Service

[Docket No. DA-00-06]

Notice of Request for Revision of a Currently Approved Information Collection

AGENCY: Agricultural Marketing Service, USDA.

ACTION: Notice and request for comments.

SUMMARY: In accordance with the Paperwork Reduction Act of 1995 (44 U.S.C. Chapter 35), this notice announces the Agricultural Marketing Service's intention to request a revision to a currently approved information collection for the Dairy Forward Pricing Pilot Program.

DATES: Comments on this notice must be received by August 27, 2001 to be assured of consideration.

FOR FURTHER INFORMATION CONTACT: Contact Dana H. Coale, Marketing Specialist, Order Formulation Branch, Room 2971-S., P.O. Box 96456, Washington, DC 20090-6456, (202) 690-3465, e-mail address Dana.Coale@usda.gov.

SUPPLEMENTARY INFORMATION: Title: Pricing Pilot Program.

OMB Number: 0581-0190.

Expiration Date of Approval: 02/29/04.

Type of Request: Revision of a currently approved information collection.

Abstract: In accordance with Public Law 106-113 (113 Stat. 1536, section 1001(a)(8); 7 U.S.C. 627), amending the Agricultural Marketing Agreement Act of 1937 (7 U.S.C. 601-674), the Dairy Forward Pricing Pilot Program became effective on July 19, 2000. The pilot program permits a handler to pay producers or cooperative associations a negotiated price, rather than the minimum Federal order price, for milk that is under forward contract, provided that such milk does not exceed the handler's nonfluid use of milk for the month. The law requires that a study be conducted on forward contracting between milk producers and cooperatives and milk handlers and that the results of the study be provided to Congress no later than April 30, 2002. The questionnaires included in this request will provide the information necessary to conduct the mandated study. The questionnaires will be distributed to a sampling of dairy producers, dairy cooperatives and handlers. The questionnaires seek information regarding operation size and location, contract participation, reasons for participating or not participating, impact of contract usage on business operations, and future intentions regarding participation.

The information collection requirements in this request are essential to carrying out the intent of the law. The information collected is the minimum required.

Estimate of Burden: Public reporting burden for this collection of information is estimated to average 15 minutes per response.

Respondents: Dairy farmers, dairy cooperative associations, dairy handlers.

Estimated Number of Respondents: 5,100.

Estimated Number of Responses per Respondent: 1.

Estimated Total Annual Burden on Respondents: 1,275 burden hours. Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Dana H. Coale, Marketing Specialist, Order Formulation Branch, Rm. 2971-S., P.O. Box 96456, Washington, DC 20090-6456, (202) 690-3465, e-mail address Dana.Coale@usda.gov. All comments received will be available for public inspection during regular business hours at the same address.

All responses to this notice will be summarized and included in the request for OMB approval. All comments will become a matter of public record.

Dated: June 21, 2001.
Kenneth C. Clayton,
Acting Administrator, Agricultural Marketing Service.

[FR Doc. 01-16213 Filed 6-27-01; 8:45 am]

BILLING CODE 3410-02-P